DEPARTMENT OF JUSTICE

Antitrust Division

Notice Pursuant to the National Cooperative Research and Production Act of 1933—Asymmetrical Digital Subscriber Line Forum

Notice is hereby given that, on June 23, 2000, pursuant to section 6(a) of the National Cooperative Research and Production Act of 1993, 15 U.S.C. 4301 et. seq. (“the Act”), Asymmetrical Digital Subscriber Line Forum (“ASDL”) has filed written notifications simultaneously with the Attorney General and the Federal Trade Commission disclosing changes in its membership status. The notifications were filed for the purpose of extending the Act's provisions limiting the recovery of antitrust plaintiffs to actual damages under specified circumstances. Specifically, Westwave Communications, Santa Rosa, CA; InfiniLink Corporation, Rancho Santa Margarita, CA; AI Metrix, El Dorado Hills, CA; Tachion Networks, West Long Branch, NJ; Maxcom Telecommunicaciones, Mexico City D.F., Mexico; TeleDream, San Jose, CA; Convergent Networks, Lowell, MA; Cornet Technologies, Springfield, VA; Broadband Gateways, Plano, TX; Voyan Technology, Santa Clara, CA; New Edge Networks, Vancouver, WA; HyperEdge Corporation, Itasca, IL; Prestolite Wire/Krone, Garland, TX; Polycom Inc., Milpitas, CA; Zhone Technologies, Oakland, CA; Ponte Communications, San Mateo, CA; Occam Networks, Santa Barbara, CA; Silicon Labs, Austin, TX; MEDIACENTERS.COM, Chantilly, VA; VideoTele.com, Beaverton, OR; On2.com, New York, NY; DSL.net, New Haven, CT; IP Communications, Dallas, TX; DiscoveryCom, Inc., Huntsville, AL; DSL.com, Inc., Carmel, IN; and Tripath Technology, Santa Clara, CA have been added as parties to this venture. Also, Chameleon Systems, Sunnyvale, CA; Design of Systems on Silicon, Valencia, Spain; Hitachi, Norcross, GA; Hyundai Electronics, Seoul, Republic of Korea; Intracom, S.A., Peania, Attika, Greece; Starnet Technologies, San Jose, CA; Tektronix, Chelmsford, MA; Toshiba Corporation, Tokyo, Japan; Transcend Access Systems, Fremont, CA; Tycho Networks, Santa Cruz, CA; VTT Electronics, Oulu, Finland; WCI Cable, Dover, DE; xDSL Networks, Inc., Towson, MD; ASC, Atlanta, GA; and Cabletron Systems, Piscataway, NJ have been dropped as parties to this venture. In addition, Pulsecom, San Diego, CA has been acquired by ECI Telecom, Altamonte Springs, FL.

No other changes have been made in either the membership or planned activity of the group research project. Membership in this group research project remains open, and ASDL intends to file additional written notifications disclosing all changes in membership.

On May 15, 1995, ADSL filed its original notification pursuant to section 6(a) of the Act. The Department of Justice published a notice in the Federal Register pursuant to section 6(b) of the Act on July 25, 1995 (60 FR 38058).

The last notification was filed with the Department on December 8, 1999. A notice was published in the Federal Register pursuant to section 6(b) of the Act on November 28, 2000 (65 FR 70936).

Constance K. Robinson,
Director of Operations, Antitrust Division.

[FR Doc. 01-12857 Filed 5-21-01; 8:45 am]

BILLING CODE 4410-11-M